DEPARTMENT OF TRANSPORTATION

Federal Aviation Administration

[Docket No. 2024-2158]

Agency Information Collection Activities: Requests for Comments; Clearance of Renewed Approval of Information Collection: Unmanned Aircraft Systems (UAS) BEYOND and Partnership for Safety Plan (PSP) Programs

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on September 18, 2024. The collection involves operational data submissions by proponents who have been granted exemptions and operational data submissions by State, Local, Tribal, and Territorial (SLTT) participants in the UAS BEYOND program. The information to be collected will be used to inform FAA policy and decision-making regarding integrating UAS into the National Airspace System (NAS).

DATES: Written comments should be submitted by December 23, 2024.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Kim Merchant by email at: kim.merchant@faa.gov; phone: 202-267-6148.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0800.

Title: Unmanned Aircraft Systems (UAS) BEYOND and Partnership for Safety Plan (PSP) Programs.

Form Numbers: The first two data collection instruments listed are to be used for the BEYOND program and are program specific; they will not include official form numbers. The last two data collection instruments listed are to be used for the BEYOND program, but also 44807 exemption holders.

• UAS Monthly Flight Report

• UAS Flight Anomaly Report

• UAS Exemption Monthly Flight Report (Pending)

• Automated Data Service Provider (ADSP) Monthly Report (Pending)

Type of Review: Renewal of an information collection.

Background: The Federal Register Notice with a 60-day comment period soliciting comments on the following collection of information was published on September 18, 2024 (89 FR 76614). The data collected during the Unmanned Aircraft Systems (UAS) BEYOND program is delineated as part of the Memorandum of Agreement (MOA) each Lead Participant signs with the FAA, and entered into under the authority of 49 U.S.C. 106(l) and (m). The data collected from proponents granted exemptions is specified in the conditions and limitations of the exemptions under the authority provided by 49 U.S.C. 106(f), 40113, 44701, and 44807. The data collected from proponents granted certificates of authorization is specified in the conditions and limitations of the authorizations under the authority provided by 49 U.S.C. 40102(a) or 49 U.S.C. 40125. The data collected from proponents granted part 107 waivers is specified in the conditions and limitations of the waivers under the authority provided by 14 CFR part 107.

The purpose of the BEYOND program is for the Federal Aviation Administration (FAA) to work with State, local and Tribal (SLT) governments toward full, safe integration of UAS into the national airspace system (NAS). There are eight SLT governments in the BEYOND program currently. The FAA Reauthorization Act of 2024, section 920, enables the FAA to expand the BEYOND program to include additional SLT governments.

BEYOND participants and other select proponents submit operational data, including monthly flight data, Automated Data Service Provider (ADSP) monthly data, and anomaly data. The purpose of these submissions is to monitor the safety of the flights and the effectiveness of the safety mitigations in place, and inform policy and decision-making related to the risks associated with operations involving command and control (C2) links, detect and avoid (DAA) capabilities, ADSP reliability, anomaly detection, and a host of other categories, to solve challenges in enabling UAS beyond visual line of sight (BVLOS) operations.

Respondents: Depending on the submission, the respondents are two groups:

1. State, Local, Tribal, or Territorial Governments—BEYOND Lead Participants.

2. Business or other for-profit—Team members of the BEYOND Lead Participants and proponents with reporting conditions and limitations in their operational approvals.

Frequency: The frequency depends on the report. See the table below for details.

Estimated Average Burden per Response: Depending on the submission, the overall estimated average burden per response varies from 60 to 90 minutes. See the table below for details.

Estimated Total Annual Burden: The estimated total annual burden for all submissions is 435 hours. See the following table for a breakdown by report or form.

Report/form | Affected public | Frequency | Number of respondents | Total number of responses | Estimated average burden per response (hours) | Estimated total annual burden (hours)
Operational Data:
UAS Monthly Flight Reports | Proponents with approval documents that include flight reporting C&Ls and BEYOND participants | Monthly | 15.00 | 180.00 | 1.00 | 180.00
UAS ADSP Monthly Reports | ADSPs that have service level agreements with proponents that submit UAS Monthly Flight Reports | Monthly | 10.00 | 120.00 | 1.50 | 180.00
UAS Anomaly Reports | Proponents with approval documents that include event reporting C&Ls and BEYOND participants | On Occasion—Assuming 5 annually per proponent | 15.00 | 75.00 | 1.00 | 75.00
Totals |  |  | 40.00 | 375.00 | 1.16 | 435.00

Issued in Washington, DC, on November 19, 2024.
Kim Merchant,
Manager, Special Projects Branch, Unmanned Aircraft Systems Integration Office, Federal Aviation Administration.

[FR Doc. 2024-27415 Filed 11-21-24; 8:45 am]

BILLING CODE 4910-13-P